DEPARTMENT OF THE TREASURY

Agency Information Collection Activities; Submission for OMB Review; Comment Request; Emergency Capital Investment Program Initial Supplemental Report and Quarterly Supplemental Report

AGENCY: Departmental Offices, U.S. Department of the Treasury.

ACTION: Notice of Information Collection; request for comment.

SUMMARY: The Department of the Treasury will submit the following information collection request to the Office of Management and Budget (OMB) for review and clearance in accordance with the Paperwork Reduction Act of 1995, on or after the date of publication of this notice. The public is invited to submit comments on this request.

DATES: Comments should be received on or before April 26, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the documents under review may be viewed at https://home.treasury.gov/policy-issues/coronavirus/assistance-for-small-businesses/emergency-capital-investment-program. For questions related to this program, please contact David Meyer by emailing ecip@treasury.gov or calling (202) 819-3127.

SUPPLEMENTARY INFORMATION:

Title: Emergency Capital Investment Program Initial Supplemental Report and Quarterly Supplemental Report.

OMB Control Number: 1505-0275.

Type of Review: Revision of a currently approved collection.

Description: Authorized by the Consolidated Appropriations Act, 2021, the Emergency Capital Investment Program (ECIP) was created to encourage low- and moderate-income community financial institutions to augment their efforts to support small businesses and consumers in their communities.

Under the program, Treasury will provide approximately $8.70 billion in capital directly to depository institutions that are certified Community Development Financial Institutions (CDFIs) or minority depository institutions (MDIs) to, among other things, provide loans, grants, and forbearance for small businesses, minority-owned businesses, and consumers, especially in low-income and underserved communities, that may be disproportionately impacted by the economic effects of the COVID-19 pandemic.

ECIP capital is eligible for a reduction in the dividend or interest rate payable on the instruments depending on the increase in lending by the recipients of the capital (Recipients) within minority, rural, and urban low-income and underserved communities and to low- and moderate-income borrowers over a baseline amount of lending. Recipients are required to submit an Initial Supplemental Report and quarterly reports to determine their increase in lending to the specified targeted communities over the baseline and therefore their qualification for rate reductions on the dividend or interest rates payable on the ECIP instruments. In addition, these reports will collect data necessary for Treasury and other oversight bodies to evaluate program outcomes over time. Treasury uses the Initial Supplemental Report to establish a baseline amount of qualified lending. Treasury proposes to continue use of this form to collect additional or restated data on a Recipient's amount of baseline lending, such as in connection with mergers, acquisitions, or other business combinations. Instructions may be modified from time to time to accommodate these uses.

Treasury proposes to use the Quarterly Supplemental Report to collect the information required to establish a Recipient's increase in lending. The Quarterly Supplemental Report has two components: (1) schedules which must be completed each quarter that collect data on activity for the preceding quarter and (2) schedules that collect data on the preceding calendar year of activity that are submitted annually. There are separate schedules and instructions for insured depository institutions, bank holding companies, and savings and loan holding companies; and credit unions.

Quarterly Report Schedules: Recipients of ECIP investments will be required to submit two schedules on a quarterly basis. Schedule A-Summary Qualified Lending is used to collect the Qualified Lending and Deep Impact Lending, as defined in the Glossary in the Instructions to the Quarterly Supplemental Report, of a Recipient for a given quarter. Schedule A is therefore used to establish the growth in a Recipient's Qualified Lending over its baseline Qualified Lending for the purposes of calculating the payment rate on the ECIP preferred shares or subordinated debt issued by the Recipient. Schedule B-Disaggregated Qualified Lending is used to present further detail on the composition of the Participant's Qualified and Deep Impact Lending.

Annual Report Schedules: Annually, Recipients will report on up to ten (10) additional schedules, depending on the origination activity that took place during the prior year. Schedule C-Additional Demographic Data on Qualified Lending collects additional demographic data on certain categories of Qualified Lending and Deep Impact Lending. Schedule D-Additional Place-based Data on Qualified Lending collects additional geographic data on certain categories of Qualified Lending and Deep Impact Lending.

Legal Certifications: Annually, under the terms of the ECIP investments, Recipient institutions must provide certain certifications. Treasury has prepared the form of these certifications for use on an annual basis by Recipients.

Impact Highlight Report: Treasury proposes to collect impact highlight reports, submitted to Treasury on a voluntary basis. The proposed form is intended to facilitate such voluntary reporting and categorization by Treasury.

Forms: Initial Supplemental Report and Instructions, Quarterly Supplemental Report Instructions and Schedules, Legal Certifications, and Impact Highlight Report.

Affected Public: Recipients of investments through the Emergency Capital Investment Program.

Estimated Number of Respondents: 180.

Frequency of Response: Initial Supplemental Report—One time annually, for applicable institutions; Quarterly Supplemental Report—Four times annually for Schedules A and B, annually for Schedules C and D; One time annually for the Legal Certifications; and when volunteered for the Emergency Capital Investment Program Impact Highlight Report.

Estimated Total Number of Annual Responses: Initial Supplemental Report—5 for initial investments, 3 for cases of mergers and acquisition; Quarterly Supplemental Report—720 for Schedules A & B and 180 for Schedule C and D; Legal Certifications—180; Emergency Capital Investment Program Impact Highlight Report—5.

Estimated Time per Response: 160 hours annually for the Initial Supplemental Report; 10 hours annually for the Quarterly Supplemental Report Schedules A & B + 120 hours for Schedules C & D; 0.5 hours for the Legal Certifications; and 0.5 hours for the Emergency Capital Investment Program Impact Highlight Report.

Estimated Total Annual Burden Hours: 30,672.5.

Authority: 44 U.S.C. 3501 et seq.

Melody Braswell,
Treasury PRA Clearance Officer.

[FR Doc. 2023-06214 Filed 3-24-23; 8:45 am]

BILLING CODE 4810-AK-P